DEPARTMENT OF COMMERCE

Submission for OMB Review; Comment Request

The Department of Commerce has submitted to the Office of Management and Budget (OMB) for clearance the following proposal for collection of information under the provisions of the Paperwork Reduction Act (44 U.S.C. chapter 35).

Agency: National Institute of Standards and Technology (NIST).

Title: Fastener Quality Act Requirements.

Form Number(s): None.

OMB Approval Number: 0693-0015.

Type of Review: Regular submission.

Burden Hours: 21.5.

Number of Respondents: 2.

Average Hours Per Response: 1.5 hours per accreditation body and 20 hours per petitioner.

Needs and Uses: The National Institute of Standards and Technology (NIST), a component of the Technology Administration reporting to the Under Secretary for Technology, under the Fastener Quality Act (the Act) (Pub. L. 101-592 amended by Pub. L. 104-113, Pub. L. 105-234 and Pub. L. 106-34) is required to accept an affirmation from laboratory accreditation bodies and quality system registrar accreditation bodies. The affirmation must meet the applicable International Organization for Standardization/International Electro-technical Commission (ISO/IEC) Guide (ISO/IEC Guide 58 for laboratory accreditors and ISO/IEC Guide 61 for registrar accreditors). An organization having made such an affirmation to NIST may accredit either fastener testing laboratories or quality system registrars for fastener manufacturers in accordance with the applicable provisions of the Fastener Quality Act. NIST will solicit information declarations from U.S. and foreign private accreditation bodies. The information collected will enable NIST to compile a list of accreditation bodies able to provide accreditations meeting all the requirements of the Act and of the procedures, 15 CFR part 280.

Section 10 of the Act requires NIST to accept petitions from persons publishing a document setting forth guidance or requirements providing equal or greater rigor and reliability compared to ISO/IEC Guide 25, ISO/IEC Guide 58, ISO/IEC Guide 61, or ISO/IEC Guide 62. Petitions to consider a document as an alternative to one of the ISO/IEC guides may be accepted by the Director of NIST for use provided the document provides equal or greater rigor and reliability as compared to the ISO/IEC guide.

Affected Public: Business or other for-profit organizations.

Frequency: On occasion.

Respondent's Obligation: Required to obtain or retain benefits.

OMB Desk Officer: Jacqueline Zeiher, (202) 395-4638.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to Jacqueline Zeiher, OMB Desk Officer, Room 10202, New Executive Office Building, Washington, DC 20503.

Dated: July 9, 2003.
Gwellnar Banks,
Management Analyst, Office of the Chief Information Officer.

[FR Doc. 03-17780 Filed 7-14-03; 8:45 am]

BILLING CODE 3510-13-P